DEPARTMENT OF TRANSPORTATION

Federal Aviation Administration

14 CFR Part 39

[Docket No. FAA-2015-2965; Directorate Identifier 2014-NM-227-AD]

RIN 2120-AA64

Airworthiness Directives; The Boeing Company Airplanes

AGENCY: Federal Aviation Administration (FAA), DOT.

ACTION: Notice of proposed rulemaking (NPRM).

SUMMARY: We propose to supersede Airworthiness Directive (AD) 2012-17-13, which applies to certain The Boeing Company Model 707 airplanes, and Model 720 and 720B series airplanes. For certain airplanes, AD 2012-17-13 required using redefined flight cycle counts; determining the type of material of the horizontal stabilizer, rear spar, and upper and lower chords on the inboard and outboard ends of the rear spar; repetitively inspecting for cracking of the horizontal stabilizer components; and repairing or replacing the chord, or modifying chord segments made of 7079 aluminum, if necessary. For all airplanes, AD 2012-17-13 required inspecting certain structurally significant items, and repairing discrepancies if necessary. Since we issued AD 2012-17-13, we have determined that all chord segments made of 7079 aluminum must be replaced with new, improved chord segments made of 7075 aluminum. This proposed AD would add a requirement to replace all chord segments made of 7079 aluminum with new, improved chord segments made of 7075 aluminum. We are proposing this AD to detect and correct stress corrosion and potential early fatigue cracking in the horizontal stabilizer, which could result in reduced structural integrity of the horizontal stabilizer.

DATES: We must receive comments on this proposed AD by September 14, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, 3855 Lakewood Boulevard, MC D800-0019, Long Beach, CA 90846-0001; telephone 206-544-5000, extension 2; fax 206-766-5683; Internet https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-2965; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Chandra Ramdoss, Aerospace Engineer, Airframe Branch, ANM-120L, FAA, Los Angeles Aircraft Certification Office (ACO), 3960 Paramount Boulevard, Lakewood, CA 90712-4137; phone: 562-627-5239; fax: 562-627-5210; email: chandraduth.ramdoss@faa.gov.

SUPPLEMENTARY INFORMATION:

Comments Invited

We invite you to send any written relevant data, views, or arguments about this proposed AD. Send your comments to an address listed under the ADDRESSES section. Include “Docket No. FAA-2015-2965; Directorate Identifier 2014-NM-227-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On August 24, 2012, we issued AD 2012-17-13, Amendment 39-17176 (77 FR 55681, September 11, 2012), for certain The Boeing Company Model 707 airplanes, and Model 720 and 720B series airplanes. For certain airplanes, AD 2012-17-13 required using redefined flight cycle counts, determining the type of material of the horizontal stabilizer, rear spar, and upper and lower chords on the inboard and outboard ends of the rear spar; repetitively inspecting for cracking of the horizontal stabilizer components; and repairing or replacing the chord, or modifying chord segments made from 7079 aluminum, if necessary. For all airplanes, AD 2012-17-13 required inspecting certain structurally significant items, and repairing discrepancies if necessary. AD 2012-17-13 resulted from reports of stress corrosion cracking in the chord segments made from 7079 aluminum in the horizontal stabilizer rear spar, and potential early fatigue cracking in the chord segments made from 7075 aluminum. We issued AD 2012-17-13 to detect and correct stress corrosion and potential early fatigue cracking in the horizontal stabilizer, which could compromise the structural integrity of the stabilizer.

Actions Since AD 2012-17-13, Amendment 39-17176 (77 FR 55681, September 11, 2012), Was Issued

The preamble to AD 2012-17-13, Amendment 39-17176 (77 FR 55681, September 11, 2012), explained that we considered the requirements “interim action” and were considering further rulemaking. We now have determined that it is necessary to initiate further rulemaking to continue to require the repetitive inspections required by AD 2012-17-13, and to add a requirement for replacement of all chord segments made of 7079 aluminum with new chord segments made of 7075 aluminum. This proposed AD follows from that determination.

Related Service Information Under 1 CFR Part 51

We reviewed Boeing 707 Alert Service Bulletin A3515, Revision 1, dated October 10, 2014. The service information describes procedures for incorporating a new cycle counting procedure, determining the material for the horizontal stabilizer rear spar chord segment, inspecting for stress corrosion cracking and fatigue cracking, repair, and replacing all chord segments made of 7079 aluminum with new, improved chord segments made of 7075 aluminum. This service information is reasonably available because the interested parties have access to it through their normal course of business or by the means identified in the ADDRESSES section of this NPRM.

FAA's Determination

We are proposing this AD because we evaluated all the relevant information and determined the unsafe condition described previously is likely to exist or develop in other products of these same type designs.

Proposed AD Requirements

This proposed AD would retain all requirements of AD 2012-17-13, Amendment 39-17176 (77 FR 55681, September 11, 2012). This proposed AD would also add a requirement to replace all chord segments made of 7079 aluminum with new chord segments made of 7075 aluminum. This replacement would not terminate the repetitive inspections required by AD 2012-17-13.

Costs of Compliance

We estimate that this proposed AD affects 10 airplanes of U.S. registry.

We estimate the following costs to comply with this proposed AD:

Table—Estimated costs
Action | Work hours | Parts | Cost per product | Fleet cost
Retained inspections from AD 2012-17-13, Amendment 39-17176 (77 FR 55681, September 11, 2012) | Up to 32 work-hours X $85 per hour = up to $2,720 per inspection cycle | $0 | Up to $2,720 per inspection cycle | Up to $27,200 per inspection cycle
Replacement [new action] | 500 work-hours X $85 per work-hour = $42,500 | Up to $228,000 per chord | Up to $2,322,500 (up to 10 chords per airplane) ¹ | Up to $23,225,000 ²
¹ The parts for the modification could cost up to $2.28 million per airplane, depending on whether only one operator is ordering the parts or multiple operators. The parts cost will go down if multiple operators order parts at the same time.
² The number of chords which must be replaced on each specific airplane varies.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2012-17-13, Amendment 39-17176 (77 FR 55681, September 11, 2012), and adding the following new AD:

The Boeing Company: Docket No. FAA-2015-2965; Directorate Identifier 2014-NM-227-AD.

(a) Comments Due Date

The FAA must receive comments on this AD action by September 14, 2015.

(b) Affected ADs

This AD replaces AD 2012-17-13, Amendment 39-17176 (77 FR 55681, September 11, 2012).

(c) Applicability

This AD applies to The Boeing Company airplanes, certificated in any category; identified in paragraphs (c)(1) and (c)(2) of this AD.

(1) Model 707 airplanes identified in Boeing 707 Alert Service Bulletin A3515, Revision 1, dated October 10, 2014.

(2) Model 720 and 720B series airplanes identified in Boeing 707 Alert Service Bulletin A3516, dated April 4, 2008.

(d) Subject

Air Transport Association (ATA) of America Code 55, Stabilizers.

(e) Unsafe Condition

This AD was prompted by a determination that all chord segments made of 7079 aluminum must be replaced with new, improved chord segments made of 7075 aluminum. We are issuing this AD to detect and correct stress corrosion and potential early fatigue cracking in the horizontal stabilizer, which could result in reduced structural integrity of the horizontal stabilizer.

(f) Compliance

Comply with this AD within the compliance times specified, unless already done.

(g) Retained Flight Cycle Counting Procedure, With Revised Service Information

This paragraph restates the requirements of paragraph (g) of AD 2012-17-13, Amendment 39-17176 (77 FR 55681, September 11, 2012), with revised service information. Flight cycles, as used in this AD, must be counted as defined in the service information identified in paragraph (g)(1), (g)(2), or (g)(3) of this AD.

(1) Boeing 707 Alert Service Bulletin A3515, dated December 19, 2007 (for Model airplanes).

(2) Boeing 707 Alert Service Bulletin A3515, Revision 1, dated October 10, 2014 (for Model airplanes).

(3) Boeing 707 Alert Service Bulletin A3516, dated April 4, 2008 (for Model airplanes, and Model 720 and 720B series airplanes).

(h) Retained Determination of Material of the Components of the Horizontal Stabilizer, With Revised Service Information

This paragraph restates the actions required by paragraph (h) of AD 2012-17-13, Amendment 39-17176 (77 FR 55681, September 11, 2012), with revised service information. For airplanes identified in Boeing 707 Alert Service Bulletin A3515, dated December 19, 2007, or Boeing 707 Alert Service Bulletin A3515, Revision 1, dated October 10, 2014: At the earlier of the times specified in paragraphs (h)(1) and (h)(2) of this AD, determine the type of material of the horizontal stabilizer, rear spar, upper chords, and lower chords on the inboard and outboard ends of the rear spar, in accordance with Part 2 of the Accomplishment Instructions of Boeing 707 Alert Service Bulletin A3515, dated December 19, 2007, or Boeing 707 Alert Service Bulletin A3515, Revision 1, dated October 10, 2014.

(1) Within 180 days after October 16, 2012 (the effective date of AD 2012-17-13, Amendment 39-17176 (77 FR 55681, September 11, 2012)).

(2) Before further flight after any horizontal stabilizer is replaced after October 16, 2012.

(i) Retained Repetitive Inspections of 7075 Aluminum Components, With Revised Service Information

This paragraph restates the actions required by paragraph (i) of AD 2012-17-13, Amendment 39-17176 (77 FR 55681, September 11, 2012), with revised service information. For airplanes with horizontal stabilizer components made from 7075 aluminum, as determined during the inspection required by paragraph (h) of this AD: Within 180 days after October 16, 2012 (the effective date of AD 2012-17-13), and before further flight after any replacement of the horizontal stabilizer, do a special detailed inspection for cracking of the upper chord on the inboard end of the rear spar on both the left and right side horizontal stabilizers, from stabilizer station -13.179 to 92.55, in accordance with Part 3 of the Accomplishment Instructions of Boeing 707 Alert Service Bulletin A3515, dated December 19, 2007, or Boeing 707 Alert Service Bulletin A3515, Revision 1, dated October 10, 2014. Repeat the inspections thereafter at intervals not to exceed 500 flight cycles, and before further flight after any replacement of the horizontal stabilizer, except as provided by paragraph (j) of this AD. If any cracking is found, before further flight, either repair the cracking in accordance with Part 3 of the Accomplishment Instructions of Boeing 707 Alert Service Bulletin A3515, dated December 19, 2007, or Boeing 707 Alert Service Bulletin A3515, Revision 1, dated October 10, 2014, except as required by paragraph (n) of this AD; or replace the chord with a new chord, in accordance with Part 6 of the Accomplishment Instructions of Boeing 707 Alert Service Bulletin A3515, dated December 19, 2007, or Boeing 707 Alert Service Bulletin A3515, Revision 1, dated October 10, 2014.

(j) Retained Repetitive Inspections on Airplanes With Replaced Chord, With Revised Service Information

This paragraph restates the actions required by paragraph (j) of AD 2012-17-13, Amendment 39-17176 (77 FR 55681, September 11, 2012), with revised service information. For airplanes on which the chord is replaced with a new chord in accordance with Part 6 of the Accomplishment Instructions of Boeing 707 Alert Service Bulletin A3515, dated December 19, 2007, or Boeing 707 Alert Service Bulletin A3515, Revision 1, dated October 10, 2014: Within 4,000 flight cycles after the chord replacement, do the inspections required by paragraph (i) of this AD, and repeat the inspections thereafter at the times specified in paragraph (i) of this AD.

(k) Retained Repetitive Inspections of 7079 Aluminum Components, With Revised Service Information

This paragraph restates the actions required by paragraph (k) of AD 2012-17-13, Amendment 39-17176 (77 FR 55681, September 11, 2012), with revised service information. For airplanes with horizontal stabilizers that have components of the chords of the rear spar made from 7079 aluminum, as determined during the inspection required by paragraph (h) of this AD: Within 180 days after October 16, 2012 (the effective date of AD 2012-17-13), do the actions required by paragraphs (k)(1), (k)(2), and (k)(3) of this AD, and repeat those actions at the applicable intervals specified in paragraphs (k)(1), (k)(2), and (k)(3) of this AD.

(1) Do a special detailed inspection for cracking of the upper chord of the inboard side of the rear spar of both the -left and right-side horizontal stabilizers from stabilizer station -13.179 to 92.55, in accordance with Part 3 of the Accomplishment Instructions of Boeing 707 Alert Service Bulletin A3515, dated December 19, 2007, or Boeing 707 Alert Service Bulletin A3515, Revision 1, dated October 10, 2014. Repeat the inspection thereafter at intervals not to exceed 250 flight cycles or 180 days, whichever occurs first. If any cracking is found during any inspection required by this paragraph, before further flight, either repair the cracking, in accordance with Part 3 of the Accomplishment Instructions of Boeing 707 Alert Service Bulletin A3515, dated December 19, 2007, or Boeing 707 Alert Service Bulletin A3515, Revision 1, dated October 10, 2014, except as required by paragraph (n) of this AD; or replace the chord with a new chord, in accordance with Part 6 of the Accomplishment Instructions of Boeing 707 Alert Service Bulletin A3515, dated December 19, 2007, or Boeing 707 Alert Service Bulletin A3515, Revision 1, dated October 10, 2014.

(2) Do a high frequency eddy current inspection for cracking of the web flanges of the upper and lower chords of the rear spar in the left and right side horizontal stabilizers from stabilizer stations 92.55 to 272.55, in accordance with Part 4 of the Accomplishment Instructions of Boeing 707 Alert Service Bulletin A3515, dated December 19, 2007, or Boeing 707 Alert Service Bulletin A3515, Revision 1, dated October 10, 2014. Repeat the inspection thereafter at intervals not to exceed 1,000 flight cycles or 180 days, whichever occurs first. If any cracking is found during any inspection required by this paragraph, before further flight, do the actions specified in paragraph (k)(2)(i) or (k)(2)(ii) of this AD.

(i) Determine whether the cracking meets the limits specified in Part 4 of the Accomplishment Instructions of Boeing 707 Alert Service Bulletin A3515, dated December 19, 2007, or Boeing 707 Alert Service Bulletin A3515, Revision 1, dated October 10, 2014, and whether a previous repair has been done; determine if all 7079 upper and lower chord segments installed on the horizontal stabilizer have had the Part II, Group 1, Preventative Modification specified in Boeing Service Bulletin 3356 done; and do all applicable repairs and modifications, in accordance with the Accomplishment Instructions of Boeing 707 Alert Service Bulletin A3515, dated December 19, 2007, or Boeing 707 Alert Service Bulletin A3515, Revision 1, dated October 10, 2014. Do the actions required by this paragraph in accordance with Part 4 of the Accomplishment Instructions of Boeing 707 Alert Service Bulletin A3515, dated December 19, 2007, or Boeing 707 Alert Service Bulletin A3515, Revision 1, dated October 10, 2014, except as required by paragraph (n) of this AD. Do all applicable repairs and modifications before further flight.

(ii) Replace the chord with a new chord, in accordance with Part 6 of the Accomplishment Instructions of Boeing 707 Alert Service Bulletin A3515, dated December 19, 2007, or Boeing 707 Alert Service Bulletin A3515, Revision 1, dated October 10, 2014.

(3) Do low frequency eddy current (LFEC) inspections for cracking of the forward skin flanges of the upper and lower chords of the rear spar in the left and right side horizontal stabilizers from stabilizer stations -13.179 to 272.55 (for lower chords) and 92.55 to 272.55 (for upper chords), in accordance with Part 5 of the Accomplishment Instructions of Boeing 707 Alert Service Bulletin A3515, dated December 19, 2007, or Boeing 707 Alert Service Bulletin A3515, Revision 1, dated October 10, 2014. Repeat the inspections thereafter at intervals not to exceed 1,000 flight cycles or 180 days, whichever occurs first. If any cracking is found during any inspection required by this paragraph, before further flight, do the actions specified in either paragraph (k)(3)(i) or paragraph (k)(3)(ii) of this AD.

(i) Repair any cracking, determine whether all 7079 upper and lower chord segments installed on the horizontal stabilizer have had the Part II—Preventative Modification specified in Boeing Service Bulletin 3381 done, and do all applicable modifications, in accordance with the Accomplishment Instructions of Boeing 707 Alert Service Bulletin A3515, dated December 19, 2007, or Boeing 707 Alert Service Bulletin A3515, Revision 1, dated October 10, 2014. Do the actions required by this paragraph in accordance with Part 5 of the Accomplishment Instructions of Boeing 707 Alert Service Bulletin A3515, dated December 19, 2007, or Boeing 707 Alert Service Bulletin A3515, Revision 1, dated October 10, 2014, except as required by paragraph (n) of this AD. Do all applicable modifications before further flight.

(ii) Replace the chord with a new chord, in accordance with Part 6 of the Accomplishment Instructions of Boeing 707 Alert Service Bulletin A3515, dated December 19, 2007; or Boeing 707 Alert Service Bulletin A3515, Revision 1, dated October 10, 2014.

(l) Retained Modification/Chord Replacement, With Revised Service Information

This paragraph restates the actions required by paragraph (l) of AD 2012-17-13, Amendment 39-17176 (77 FR 55681, September 11, 2012), with revised service information. For airplanes identified in Boeing 707 Alert Service Bulletin A3515, dated December 19, 2007, or Boeing 707 Alert Service Bulletin A3515, Revision 1, dated October 10, 2014, with horizontal stabilizers that have rear spar chord components made from 7079 aluminum and have not had embodied the modification of Part II of Boeing Service Bulletin 3381, dated July 25, 1980, or Boeing Service Bulletin 3381, Revision 1, dated July 31, 1981: Before further flight after determining the type of material in accordance with paragraph (h) of this AD, modify all 7079 chord segments installed on the horizontal stabilizer, in accordance with Part 5 of the Accomplishment Instructions of Boeing 707 Alert Service Bulletin A3515, dated December 19, 2007, or Boeing 707 Alert Service Bulletin A3515, Revision 1, dated October 10, 2014; or replace the chord, in accordance with Part 6 of the Accomplishment Instructions of Boeing 707 Alert Service Bulletin A3515, dated December 19, 2007, or Boeing 707 Alert Service Bulletin A3515, Revision 1, dated October 10, 2014.

(m) Retained Supplemental Structural Inspection Document Inspections

This paragraph restates the actions required by paragraph (m) of AD 2012-17-13, Amendment 39-17176 (77 FR 55681, September 11, 2012). For all airplanes: Within 180 days or 1,000 flight cycles after October 16, 2012 (the effective date of AD 2012-17-13), whichever occurs first, do the inspections of the applicable structurally significant items specified in and in accordance with the Accomplishment Instructions of Boeing 707 Alert Service Bulletin A3516, dated April 4, 2008. If any cracking is found, before further flight, repair in accordance with the procedures specified in paragraph (r) of this AD. The inspections required by AD 85-12-01 R1, Amendment 39-5439 (51 FR 36002, October 8, 1986), are still required, except, as of October 16, 2012 (the effective date of AD 2012-17-13), the flight-cycle interval for the repetitive inspections specified in paragraph 1.E., “Compliance,” of Boeing 707 Alert Service Bulletin A3516, dated April 4, 2008, must be counted in accordance with the requirements of paragraph (g) of this AD.

(n) Retained Exception to Certain Service Information: Contacting FAA for Crack Repair

This paragraph restates the actions required by paragraph (n) of AD 2012-17-13, Amendment 39-17176 (77 FR 55681, September 11, 2012), with revised service information. If any cracking is found during any inspection required by this AD, and Boeing 707 Alert Service Bulletin A3515, dated December 19, 2007, or Boeing 707 Alert Service Bulletin A3515, Revision 1, dated October 10, 2014, specifies to contact Boeing for appropriate action: Before further flight, repair the cracking using a method approved in accordance with the procedures specified in paragraph (r) of this AD.

(o) Retained Exception to Certain Service Information: Nondestructive Test Compliance Procedures

This paragraph restates the requirements of paragraph (o) of AD 2012-17-13, Amendment 39-17176 (77 FR 55681, September 11, 2012), with revised service information. Where Boeing 707 Alert Service Bulletin A3515, dated December 19, 2007, or Boeing 707 Alert Service Bulletin A3515, Revision 1, dated October 10, 2014, specifies that operators “refer to” nondestructive test (NDT) procedures, the procedures must be done in accordance with the service information identified in paragraphs (o)(1), (o)(2), and (o)(3) of this AD, as applicable.

(1) Figure 20, “Electrical Conductivity Measurement for Aluminum,” of Subject 51-00-00, “Structures-General,” of Part 6—Eddy Current, of the Boeing 707/720 Nondestructive Test Manual, Document D6-48023, Revision 118, dated July 15, 2011.

(2) Subject 55-10-07, “Horizontal Stabilizer,” of Part 6—Eddy Current, of the Boeing 707/720 Nondestructive Test Manual, Document D6-48023, Revision 118, dated July 15, 2011.

(3) Subject 51-01-00, “Orientation and Preparation for Testing” of Part 1—General, of the Boeing 707/720 Nondestructive Test Manual, Document D6-48023, Revision 118, dated July 15, 2011.

(p) Retained Parts Installation Prohibition

As of October 16, 2012 (the effective date of AD 2012-17-13, Amendment 39-17176 (77 FR 55681, September 11, 2012)), no person may install any horizontal stabilizer assembly with any chord segment having a part number other than that identified in paragraph 2.C.2. of Boeing 707 Alert Service Bulletin A3515, dated December 19, 2007, or Boeing 707 Alert Service Bulletin A3515, Revision 1, dated October 10, 2014, on any airplane.

(q) New Replacement of 7079 Aluminum Components

Within 48 months after the effective date of this AD: Replace all 7079 aluminum chord segments of the upper and lower chords installed on the horizontal stabilizer with 7075 aluminum chord segments, in accordance with Part 6 of the Accomplishment Instructions of Boeing 707 Alert Service Bulletin A3515, Revision 1, dated October 10, 2014. Within 4,000 flight cycles after accomplishing the replacements required by this paragraph, repeat the inspection required by paragraph (j) of this AD; and repeat the inspection thereafter at intervals not to exceed 500 flight cycles, and before further flight after any replacement of the horizontal stabilizer.

(r) Alternative Methods of Compliance (AMOCs)

(1) The Manager, Los Angeles Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (s)(1) of this AD. Information may be emailed to: 9-ANM-LAACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Los Angeles ACO, to make those findings. For a repair method to be approved, the repair must meet the certification basis of the airplane, and the approval must specifically refer to this AD.

(4) AMOCs approved for AD 2012-17-13, Amendment 39-17176 (77 FR 55681, September 11, 2012), are approved as AMOCs for the corresponding provisions of this AD.

(s) Related Information

(1) For more information about this AD, contact Chandra Ramdoss, Aerospace Engineer, Airframe Branch, ANM-120L, FAA, Los Angeles Aircraft Certification Office (ACO), 3960 Paramount Boulevard, Lakewood, CA 90712-4137; phone: 562-627-5239; fax: 562-627-5210; email: chandraduth.ramdoss@faa.gov.

(2) For service information identified in this AD, contact Boeing Commercial Airplanes, Attention: Data & Services Management, 3855 Lakewood Boulevard, MC D800-0019, Long Beach, CA 90846-0001; telephone 206-544-5000, extension 2; fax 206-766-5683; Internet https://www.myboeingfleet.com. You may view this referenced service information at the FAA, Transport Airplane Directorate, 1601 Lind Avenue SW., Renton, WA. For information on the availability of this material at the FAA, call 425-227-1221.

Issued in Renton, Washington, on July 16, 2015.
Suzanne Masterson,
Acting Manager, Transport Airplane Directorate, Aircraft Certification Service.

[FR Doc. 2015-18559 Filed 7-29-15; 8:45 am]

BILLING CODE 4910-13-P